DEPARTMENT OF ENERGY

Federal Energy Regulatory Commission

[Docket No. RP02-361-031]

Gulfstream Natural Gas System, L.L.C.; Notice of Compliance Filing

June 8, 2004.

Take notice that on June 2, 2004, Gulfstream Natural Gas System, L.L.C. (Gulfstream) tendered for filing an executed service agreement and related negotiated rate letter agreement in compliance with an order of the Commission in the above-captioned docket dated May 26, 2004.

Gulfstream states that copies of its filing have been mailed to all affected customers and interested state commissions, as well as all parties on the Official Service List compiled by the Secretary of the Commission in this proceeding.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1367 Filed 6-17-04; 8:45 am]

BILLING CODE 6717-01-P